NATIONAL FOUNDATION ON THE ARTS AND THE HUMANITIES

National Endowment for the Arts

30-Day Notice for the “Our Town Program Implementation Study” Proposed Collection; Comment Request

AGENCY: National Endowment for the Arts, National Foundation on the Arts and the Humanities.

ACTION: Notice.

SUMMARY: The National Endowment for the Arts (NEA), as part of its continuing effort to reduce paperwork and respondent burden, conducts a preclearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. Currently, the NEA is soliciting comments concerning the proposed information collection for the Evaluation of the Our Town Program. A copy of the current information collection request can be obtained by contacting the office listed below in the address section of this notice.

DATES: Written comments must be submitted to the office listed in the address section below within 30 days from the date of this publication in the Federal Register.

ADDRESSES: Send comments to: Sunil Iyengar, National Endowment for the Arts, 400 7th Street SW, Washington, DC 20506-0001, telephone (202) 682-5424 (this is not a toll-free number), fax (202) 682-5677, or send via email to research@arts.gov.

FOR FURTHER INFORMATION CONTACT: The Office of Information and Regulatory Affairs, Attn: Sharon Mar, OMB Desk Officer for the National Endowment for the Arts, Office of Management and Budget, Room 10235, Washington, DC 20503, 202-395-7316.

SUPPLEMENTARY INFORMATION: The NEA is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: National Endowment for the Arts.

Title: Our Town Program Implementation Study.

OMB Number: New.

Frequency: One Time.

Affected Public: Grantee Organizations (local government agencies and nonprofits).

Estimated Number of Respondents: 381.

Total burden hours: 190.5 hours.

Total annualized capital/startup costs: 0.

Total annual costs (operating/maintaining systems or purchasing services): $55,000.

This study is a new information collection request, and the data to be collected are not available elsewhere unless obtained through this information collection. A web-based survey of the National Endowment for the Arts' (NEA) Our Town program grantees is planned for late January 2019 through mid-April 2019. Knowledge gained through this study will enable the NEA to validate or modify the Our Town program theory of change, logic model, and measurement model in order to adjust grant program guidelines and grantee reporting requirements and to prepare for a future outcome evaluation study. The web-based survey of past and present Our Town grantees will provide the NEA with a richer understanding of how Our Town grantees operate in local communities and the types of change to which the grants contribute. Currently, the NEA grantee report form does not collect detailed information about project design, and changes to the report form would not yield substantive information until at least 2022 due to the grant reporting cycle. Our Town is the NEA's creative placemaking grants program since FY 2011. Through project-based funding ranging from $25,000 to $150,000, the agency makes awards nationally to local government agencies and nonprofit organizations in urban, rural, and tribal communities to support projects that integrate arts, culture, and design activities into efforts that strengthen communities by advancing local economic, physical, and/or social outcomes. These projects require a partnership between a local government entity and nonprofit organization, one of which must be a cultural organization; and should engage in partnership with other sectors (such as agriculture and food, economic development, education and youth, environment and energy, health, housing, public safety, transportation, and workforce development). Our Town projects proposed by applicants often utilize a mix of activities, including arts engagement, cultural planning, design, and artist and creative industry support. It is the agency's vision that successful Our Town projects ultimately lay the groundwork for systemic changes that sustain the integration of arts, culture, and design into strategies for strengthening communities. This study supports NEA's FY 2018-2022 Strategic Plan, which seeks in part to “provide opportunities for the arts to be integrated into the fabric of community life” (Strategic Objective 2.3) and to “expand and promote evidence of the value and impact of the arts for the benefit of the American people” (Strategic Objective 3.2).

Dated: October 15, 2018.
Gregory Gendron,
Director, Administrative Services, National Endowment for the Arts.

[FR Doc. 2018-22729 Filed 10-17-18; 8:45 am]

BILLING CODE 7537-01-P